DEPARTMENT OF STATE

[Public Notice 6293]

Public Meeting of the Advisory Committee on Persons With Disabilities

SUMMARY: A working group of the Advisory Committee on Persons with Disabilities of the U.S. Department of State and the U.S. Agency for International Development (Committee) will conduct a public meeting on Wednesday, August 13, 2008 from 9 a.m.-1 p.m. in the Ronald Reagan Building and International Trade Center, 1300 Pennsylvania Avenue, NW., Washington, DC 20004. For directions, see, http://www.itcdc.com/index.php.

The Working Group of the Committee is reviewing the National Council on Disability (NCD) September 9, 2003 Report entitled, “Foreign Policy and Disability: Legislative Strategies and Civil Rights Protections to Ensure Inclusion of People with Disabilities” (http://www.ncd.gov/newsroom/publications/2003/foreign03.htm). At this meeting, the Working Group will discuss its assessment of the progress being made in addressing the conclusions of the NCD Report and will discuss recommendations to be made to the Committee.

Attendees must have valid, government-issued photo identification, such as a Driver's License or passport, in order to enter the building. Attendees requiring reasonable accommodation should indicate their requirements at least one week prior to the event to Sylvia Thomas at thomassl@state.gov. There will be a limited amount of time for comments from the public.

Established on June 23, 2004, the Advisory Committee serves the Secretary and the Administrator in an advisory capacity with respect to the consideration of the interests of persons with disabilities in the formulation and implementation of U.S. foreign policy and foreign assistance. The Committee is established under the general authority of the Secretary and the Department of State as set forth in Title 22 of the United States Code, Sections 2656 and 2651a, and in accordance with the Federal Advisory Committee Act, as amended.

Dated: July 28, 2008.
Stephanie Ortoleva,
Bureau of Democracy, Human Rights and Labor, Department of State.

[FR Doc. E8-18111 Filed 8-5-08; 8:45 am]

BILLING CODE 4710-18-P